DEPARTMENT OF DEFENSE

Department of the Air Force

[Docket ID USAF-2014-0010]

Privacy Act of 1974; System of Records

AGENCY: Department of the Air Force, DoD.

ACTION: Notice to add a new System of Records.

SUMMARY: The Department of the Air Force proposes to add a new system of records, F084 NMUSAF B, entitled, “Air Force Museum Artifact Tracking System (AFMATS)” to its inventory of record systems subject to the Privacy Act of 1974, as amended. This system will be used to systematically collect and retain acquisition data regarding individuals donating historical property or archival materials to the National Museum of the United States Air Force. This system will enable the United States Air Force Heritage Program museums, heritage centers, and historical holdings to provide responses to requests for information regarding the status/location of donated historical property and archival materials. The Air Force may then establish title to the historical property and archival materials.

DATES: Comments will be accepted on or before June 2, 2014. The proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address FOR FURTHER INFORMATION CONTACT or from the Defense privacy and Civil Liberties Office Web site at http://dpclo.defense.gov/.

The proposed system reports, as required by 5 U.S.C. 552a(r) of the Privacy Act of 1974, as amended were submitted on April 14, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 28, 2014.
Aaron Siegel,
Alternate OSD Federal Register Liaison Officer, Department of Defense.

F084 NMUSAF B

System name:

Air Force Museum Artifact Tracking System (AFMATS).

System location:

National Museum of the United States Air Force, 1100 Spaatz Street, Wright-Patterson Air Force Base, OH 45433-7102.

Categories of individuals covered by the system:

Members of the general public that donate museum materials to the United States Air Force Heritage Program museums and heritage centers.

Categories of records in the system:

Name, home telephone and personal cellular numbers, mailing address, and personal email address.

Authority for the maintenance of the system:

10 U.S.C. Subtitle D, Air Force; Air Force Instruction 84-103, United States Air Force Heritage Program; Air Force Policy Directive (AFPD) 84-1, Historical Information, Property and Art.

Purpose(s):

To collect and retain acquisition data regarding individuals donating historical property or archival materials to the National Museum of the United States Air Force. Enable the United States Air Force Heritage Program museums, heritage centers and historical holdings to provide responses to requests for information regarding the status/location of donated historical property and archival materials. Allow the Air Force to establish title to the historical property and archival material.

Routine uses of records maintained in the system including categories of users and the purposes of such uses:

In addition to those disclosures generally permitted under Title 5 U.S.C. 552a(b) of the Privacy Act of 1974, as amended, these records contained therein may specifically be disclosed outside the DoD as a routine use pursuant to Title 5 U.S.C. 552a(b)(3) as follows:

The DoD Blanket Routine Uses published at the beginning of the Air Force's compilation of systems of records notices may apply to this system.

Policies and practices for storing, retrieving, accessing, retaining, and disposing of records in the system:

Storage:

Paper records and electronic storage media.

Retrievability:

Name and home mailing address.

Safeguards:

Paper records are maintained within divisional office areas of the National Museum of the United States Air Force, which is restricted by the use of locks and a controlled entry system. Electronically and optically stored records are maintained in system software with password-protected access. Records are accessible only to authorized persons with a need-to-know who are properly screened, cleared, and trained. The system maintains data encryption, role based access, Common Access Card access, and authentication through a unique ORACLE I.D. and password, as well as, through secure socket protocols.

Retention and disposal:

Historical records are retained for 20 years after property leaves AF inventory and all legal settlements have been finalized before information in databases will be deleted; paper records will be destroyed by shredding, or maceration when no longer needed.

System manager and address:

Museum Curator, National Museum of the United States Air Force, 1100 Spaatz Street, Wright-Patterson Air Force Base, OH 45433-7102.

Notification procedures:

Individuals seeking to determine whether this system of records contains information on themselves should address written inquiries to National Museum of the U.S. Air Force, 1100 Spaatz Street, Wright-Patterson Air Force Base, Ohio 45433-7102.

For verification purposes, individuals should provide their full name and any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths:

‘I declare (or certify, verify, or state) under penalty of perjury that the foregoing is true and correct. Executed on (date). (Signature)’.

Record access procedures:

Individuals seeking access to records about themselves contained in this system should address written inquiries to National Museum of the U.S. Air Force, 1100 Spaatz Street, Wright-Patterson Air Force Base, Ohio 45433-7102.

For verification purposes, individuals should provide their full name and any details which may assist in locating records, and their signature.

In addition, the requester must provide a notarized statement or an unsworn declaration made in accordance with 28 U.S.C., 1746, in the following format:

If executed outside the United States:

‘I declare (or certify, verify, or state) under penalty of perjury under the laws of the United States of America that the foregoing is true and correct. Executed on (date). (Signature)’.

If executed within the United States, its territories, possessions, or commonwealths:

‘I declare (or certify, verify, or state) under penalty of perjury that the foregoing is true and correct. Executed on (date). (Signature)’.

Contesting records procedures:

The Air Force rules for accessing records and for contesting contents and appealing initial agency determinations are published in Air Force Instruction 33-332, Air Force Privacy and Civil Liberties Program 32 CFR part 806b, and may be obtained from the system manager.

Record source categories:

From the individual.

Exemptions claimed for the system:

None.

[FR Doc. 2014-09952 Filed 4-30-14; 8:45 am]

BILLING CODE 5001-06-P